DEPARTMENT OF TRANSPORTATION

Federal Aviation Administration

Notice of Opportunity for Public Comment on Disposal of Airport Property at Berlin Regional Airport in Milan, NH

AGENCY: Federal Aviation Administration (FAA), DOT.

ACTION: Request for public comments.

SUMMARY: Under the provisions of Title 49, U.S.C. Section 47153(d), notice is being given that the FAA is considering a request from Berlin Regional Airport in Milan, NH to dispose of a parcel of land approximately 7.0 acres at Berlin Regional Airport on Milan, NH.

The subject parcel is currently undeveloped and is not contiguous to the airport proper. The land is physically separated from the main airport property by State Route 16 and has no aviation development potential. The airport has been approached by the abutting land owner to purchase the property to expand his commercial property. The funds from the sale of the property, which has been valued at Fair Market Value, will be deposited into the Airport's dedicated fund and will be used for continued operation and maintenance of the airport.

DATES: Comments must be received on or before March 28, 2016.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, Telephone 781-238-7618.

Issued in Burlington, Massachusetts, on February 16, 2016.
Mary T. Walsh,
Manager, Airports Division.

[FR Doc. 2016-04218 Filed 2-25-16; 8:45 am]

BILLING CODE P